FEDERAL COMMUNICATIONS COMMISSION

47 CFR Part 11

[EB Docket No. 04-296; FCC 15-60]

Review of the Emergency Alert System

AGENCY: Federal Communications Commission.

ACTION: Final rule.

SUMMARY: In this document, the Federal Communications Commission (Commission) revises its rules governing the Emergency Alert System (EAS) to: Establish a national location code for EAS alerts issued by the President; amend the Commission's rules governing a national EAS test code for future nationwide tests; require broadcasters, cable service providers, and other entities required to comply with the Commission's EAS rules (EAS Participants) to file test result data electronically; and require EAS Participants to meet minimal standards to ensure that EAS alerts are accessible to all members of the public, including those with disabilities.

DATES: Effective July 30, 2015, except for § 11.21(a), and § 11.61(a)(3)(iv) which contain information collection requirements that have not been approved by OMB. The Federal Communications Commission will publish a document in the Federal Register announcing the effective date.

FOR FURTHER INFORMATION CONTACT: Lisa Fowlkes, Deputy Bureau Chief, Public Safety and Homeland Security Bureau, at (202) 418-7452, or by email at Lisa.Fowlkes@fcc.gov. For additional information concerning the Paperwork Reduction Act information collection requirements contained in this document, contact Nicole On'gele at (202) 418-2991 or send an email to PRA@fcc.gov.

SUPPLEMENTARY INFORMATION: This is a summary of the Commission's Sixth Report and Order in EB Docket No. 04-296, FCC 15-60, adopted on June 1, 2015 and released on June 3, 2015. The full text of this document is available for inspection and copying during normal business hours in the FCC Reference Center (Room CY-A257), 445 12th Street SW., Washington, DC 20554. The complete text of this document also may be purchased from the Commission's copy contractor, Best Copy and Printing, Inc., 445 12th Street SW., Room CY-B402, Washington, DC 20554. The full text may also be downloaded at: www.fcc.gov.

I. Synopsis

1. Use of a National Location Code

1. In the EAS Operational Issues NPRM,¹ we proposed that EAS Participants must be capable of receiving and processing a national location code, and that “six zeroes” be designated as that code. We explained that adoption of a “six zeroes” location code would bring additional consistency to the EAS alert distribution hierarchy, and, along with our requirement that header codes not be “amended, extended or abridged,” could enable more precise geo-targeting of EAS alerts. We also explained that adoption of “six zeroes” as the national location code could have the additional long-term benefit of ensuring the desired harmony between our EAS rules and industry CAP standards, which, in turn, will facilitate the integration of the EAS into IP-based alerting systems such as IPAWS.

¹ Review of the Emergency Alert System. 79 FR 41159 (July 15, 2014).

2. Commenters unanimously supported our adoption of the “six zeroes” national location code. For the reasons set forth herein, we agree and accordingly adopt “six zeroes” as the national location code for any future nationwide EAS test, as well as for any future nationwide EAS alerts. The rule we adopt today requires that EAS Participants' EAS encoder/decoder equipment be capable of processing “000000” in the location code field as a header code indicating that the alert is relevant to the entire United States.

3. Implementation of “six zeroes” as the national location code will present negligible costs to EAS Participants because most EAS equipment deployed in the field already supports the “six zeroes” national location code or would require only a software update to provide such support. For example, NCTA asserts that cable providers may have to engage in firmware updates and testing to verify that the new code functions within their systems. For this reason, NCTA asserts that adopting “six zeroes” as the national location code will present cable service provider EAS Participants with approximately $1.1 million in aggregated capital and operational costs for the entire cable industry. Similarly, in the EAS Operational Issues NPRM, we estimated that costs confronting broadcasters also would approach $1.1 million, for an aggregate cost of $2.2 million for the implementation of “six zeroes” as the national location code. No commenter challenges our estimated costs for either cable providers or broadcasters. Moreover, commenters agree this cost is justified by the benefits.

4. Use of “six zeroes” as the national location code promises to improve the efficacy of the EAS. Adoption of “six zeroes” as the national location code has the long-term benefit of ensuring consistency between the EAS rules and industry CAP standards, which already recognize “six zeroes” as the national location code. This, in turn, will facilitate the integration of the EAS into the IP-based IPAWS. We note that use of a “six zeroes” location code is also consistent with our requirement that EAS header codes not be “amended, extended, or abridged.” We have observed that using a single locality's location code for a national alert can cause confusion. We also recognize that to issue an alert for the entire United States without recourse to a national location code would require two separate alerts because the EAS alert headers can only hold thirty-one distinct location codes. Thus, we agree with Trilithic that the use of a single national location code simplifies our national alerting infrastructure. Finally, Monroe opines that “use of a national location code would provide improved geo-targeting of an EAN should the President wish to address a particular part of the country rather than the nation as a whole.” In light of these benefits, we find that adoption of a “six zeroes” national location code serves the public interest in promoting the effective use of the EAS.

2. National Periodic Test Code (NPT)

5. In the EAS Operational Issues NPRM, we proposed to amend our rules to allow use of the NPT for future EAS testing as a less burdensome and potentially less confusing alternative to the EAN. We also recognized that the NPT could be tailored in different ways, with different costs and benefits, and sought further comment on what operational requirements the Commission should require for the NPT to facilitate effective and minimally burdensome testing. Specifically, we sought to develop a more robust record on whether the NPT should: (a) Have the same two-minute maximum duration and limited priority as all other non-EAN EAS event codes; or (b) fully emulate the EAN in its mandatory priority and indefinite length. We stated that our intent was to provide FEMA with maximum flexibility to test the EAS in the most appropriate manner, while also articulating a clear and feasible standard for EAS Participants and other stakeholders. In this regard, we noted that, unlike an EAN-emulating NPT, an NPT that shares the priority and two-minute limit of other alert event codes would accommodate FEMA's stated desire to perform a national EAS test in the near future, and would do so at a dramatically lower cost than an EAN-emulating NPT. We sought comment, in the alternative, on how the cost of conducting another EAN-based nationwide test, including any outreach specifically tied to use of the EAN, would compare with the costs of conducting a test with an NPT that fully emulates the EAN. We also noted that an NPT with limited duration and priority would have all of the benefits of full-EAN emulation, except that it would not test the reset function triggered by an alert lasting longer than two minutes. Finally, the Commission sought comment on whether the reset functionality triggered by an alert lasting longer than two minutes was testable in a test bed.

6. Commenters unanimously agree that the NPT—not the EAN, and not an NPT that is reprogrammed to fully emulate the EAN—should be the national test event code. Accordingly, and for reasons discussed in further detail below, we adopt the NPT as the test event code for the purpose of nationwide EAS testing, and further require that the NPT as used in such tests be limited in duration to two minutes or less, and have normal priority. In order to comply with FEMA's stated intent that the NPT be disseminated with the “same immediacy as the EAN,” we further require that the NPT be retransmitted immediately upon receipt. We also reiterate that any national or occasional “special” EAS tests referred to in the part 11 rules that use the NPT will replace the required monthly test (RMT) of the EAS for any month in which such an NPT-based test is scheduled.

7. The record indicates that the cost of upgrading EAS equipment to allow the NPT to function in the manner we adopt today will not be significant. The NPT is already present in Section 11.31 of the EAS rules as a required event code and, as such, has already been programmed into most EAS equipment. According to EAS equipment manufacturers, “the NPT code is already recognized by virtually all existing EAS devices or can be easily enabled by EAS [P]articipants through simple reconfigurations of the code filters on their encoder devices.” The costs that EAS Participants must incur as a result of our requirements are limited to those incurred by the relatively small number of EAS Participants who will have to manually change the settings of their EAS equipment to automatically respond to the NPT. Any additional regulatory costs that are imposed by this requirement will be further offset by the reduction in regulatory burdens that will result from broadcast, cable and satellite EAS Participants not having to explain to the public through video replacement slides and other outreach efforts that the alert displayed on the screen is not an actual alert.

8. We contrast the minimal costs imposed by the NPT functionality we require today with those that EAS Participants would incur were the NPT to fully emulate the EAN. Commenters argue that full-EAN emulation would require three years to implement, and would cost at least $3.3 million more than implementing an NPT with standard duration and priority. During that time, firmware in EAS equipment would need to be modified such that an NPT would take priority over all other alerts and to avoid triggering the reset functionality that automatically ends an alert after two minutes. The standards and other proprietary protocols governing the operation of downstream equipment also would need to be updated. That equipment would then need to be upgraded, tested, and deployed in order to achieve operational readiness for an EAS test with an EAN-emulating NPT. We also note that an NPT with maximum priority would supersede any live alert that may be delivered in an area of the country subject to the test. We believe that this would be inconsistent with the life-saving purpose of the EAS. For these reasons, we decline to adopt an NPT that fully emulates the EAN.

9. We agree with commenters' assertions that an NPT that shares the priority and two minute time limit of all other event codes will still advance the most important goal of this proceeding, namely, to ready the national alerting infrastructure for a test that FEMA intends to conduct in the near future. Further, we agree with commenters that an NPT with the characteristics we require today will “sufficiently test the reliability of the EAS dissemination ecosystem, providing adequate data for the Commission and FEMA to fully assess the hierarchy and dissemination of EAS alerts throughout the EAS system, via both legacy and CAP-enabled EAS devices.” We also agree with commenters that the approach we take today has the benefit of being “clearly marked as a test, preventing any public confusion.” As noted earlier, the use of the EAN in conjunction with the first nationwide test necessitated extensive outreach to ensure that the public understood that the event was only a test; none of this outreach would be required with the use of the NPT. Finally, as commenters suggest, we note that it may be possible for FEMA to test EAS equipment's ability to successfully process the priority and duration elements of an EAN in a test bed, thus ensuring that all elements of the system are tested.

B. Electronic Test Reporting System

10. As the Bureau reported in the EAS Nationwide Test Report, of the EAS Participants who submitted test result data, the vast majority chose to use the voluntary, temporary, electronic filing system employed for the first nationwide EAS test, rather than to submit paper filings. The data available from the electronic reporting system allowed the Commission to generate reports on EAS Participants' monitoring assignments at all points throughout the EAS' national distribution architecture that would not have been feasible with paper filings alone. As a result of the positive response to this temporary electronic filing system and the enhanced analytics it enabled, the EAS Nationwide Test Report recommended that the Commission develop a permanent electronic reporting system based on the system used during the first nationwide EAS test to provide a similarly efficient mechanism to expedite the filing of test result data by EAS Participants. Subsequently, at its March 20, 2014 meeting, the Communications Security, Reliability, and Interoperability Council (CSRIC) also recommended that the Commission develop a federal government database to contain EAS Participants' monitoring assignments.

11. In the EAS Operational Issues NPRM, we proposed an improved electronic filing system and related database, the ETRS, based on the system the Commission used for the first nationwide EAS test. Use of this new system would be mandatory for EAS Participants, and the system would offer improvements over the prior version of the system designed to further expedite filing and minimize burdens on EAS Participants. As proposed, the ETRS would follow the structure of the system used in 2011, and be composed of three forms. Form One would ask each EAS Participant for identifying and background information, including EAS designation, EAS monitoring assignments, facility location, equipment type, contact information, and other relevant data. Form Two would ask each EAS Participant whether it received the Nationwide EAS Test alert code and, if required to do so, whether the EAS Participant propagated the alert code downstream. Form Three would ask each EAS Participant to submit detailed information regarding its receipt and propagation, if applicable, of the alert code, including an explanation of any complications in receiving or propagating the code.

12. We also proposed certain improved processing procedures for the ETRS based on lessons learned from the first nationwide EAS test. In particular, we proposed that EAS Participants: (1) Would have the capability to review filings prior to final submission and to retrieve previous filings to correct errors; (2) would not be required to input data into the ETRS that EAS Participants have previously provided to the Commission elsewhere; and (3) would receive a filing receipt upon successful completion of the required report. We further proposed to revise our rules to integrate the identifying information provided by Form One of the new ETRS into the State EAS Plans filed pursuant to Section 11.21 of the Commission's EAS rules, and to consolidate those State EAS Plans into an EAS Mapbook. Finally, we proposed that EAS Participants submit Form One, the self-identifying portion of the ETRS, within one year of the effective date of the reporting rules, and to update the information that EAS Participants are required to supply in Form One on a yearly basis, and as required by any updates or waivers to State EAS Plans.

13. Commenters unanimously support the Commission's ETRS proposal because it eases the data-entry burden on EAS Participants and facilitates effective analysis of the EAS infrastructure. We agree, and therefore adopt a revised version of the ETRS, as described below. Although the ETRS we adopt today largely resembles the 2011 version, it also contains certain improvements supported by commenters. For example, in order to minimize EAS Participants' filing burden, the ETRS database will be pre-populated with the types of identifying information (e.g., broadcaster call letters and geographic location of transmitters) that EAS providers have provided in the Universal Licensing System and related FCC databases. We find that pre-populating the ETRS in this manner is technically feasible and will encourage timely filings by streamlining the process and reducing burdens on filers significantly. We thus require that the ETRS have this functionality. Further, we agree that EAS Participants should be able to review their filings prior to final submission, to retrieve previous filings to correct errors for thirty days after submission, and to provide filers with a filing receipt verifying submission of a completed report. We also agree that the integration of ETRS data into the EAS Mapbook will “ease the data-entry burden on EAS Participants and make the best use of the Commission's time and resources,” and that the advent of ETRS gives the Commission the tool it needs to create the data tables necessary to complete it. The EAS Mapbook will also allow the Commission to maintain a centralized database containing all EAS monitoring assignments and alert distribution pathways, enabling new analyses of alert distribution at the national, state, and local levels. Accordingly, we require that the ETRS have the capability to create maps that indicate the propagation of an EAN throughout the EAS architecture. Finally, subsequent to any nationwide EAS test, we require EAS Participants to submit detailed information regarding their receipt and propagation, if applicable, of the alert code, including an explanation of any complications in receiving or propagating the code.

14. In order to address commenters' concerns expressed in the record, we adopt the following additional requirements for the ETRS:

• The ETRS will require a filer to identify itself as a radio broadcaster, television broadcaster, cable system, wireless cable system, Direct Broadcast Satellite (DBS), Satellite Digital Audio Radio Service (SDARS), wireline video system, or “other,” instead of the previous options (limited to “broadcaster” or “cable operator”).

• The ETRS will reflect that the Physical System ID (PSID) is not necessarily equivalent to the geographic area in which an EAS Participant delivers emergency alerts. In addition to a PSID field, the system will include a new field called “Geographic Zone” so that EAS Participants can provide more granular information, if appropriate. For example, when the applicable PSID includes multiple geographic areas that span across counties or states, one ETRS filing for a PSID containing multiple “Geographic Zones” will be accepted.

• The ETRS will permit EAS Participants to supply latitude and longitude information as separate fields, using the North American Datum of 1983 (NAD83).

• The ETRS will require filers to supply contact information related to the individual who completes the form.

• The ETRS will allow for batch filing to facilitate more efficient reporting, consistent with the record on this issue.

• EAS Participants will be required to attest to the truthfulness of their filings in the ETRS, and are reminded that they are responsible for the accuracy of the information they file with the Commission, including any pre-populated data.

15. We find that the ETRS will minimize filing burdens on EAS Participants. In comparison to equivalent paper filings, the costs associated with requiring EAS Participants to file test result data in ETRS will be minimal, and the database improvements we adopt today are aimed at streamlining the filing process and reducing these costs even further. Most of the information that we propose EAS Participants submit to the ETRS has already been populated in other FCC databases, and thus compliance with the ETRS merely requires EAS Participants to review and update the pre-populated data fields to ensure the information is accurate and up to date. For the few data fields that EAS Participants must complete, we conclude that compliance would entail a one-time cost of approximately $125.00 per EAS Participant. This $125.00 figure for the cost of complying with ETRS filing requirements is based on the cost of filing in the comparable system used for the first nationwide EAS test, a cost which has already been reviewed and approved by the Office of Management and Budget in the Paperwork Reduction Act analysis. We also note that no commenter objects to this figure. Accordingly, we conclude that the aggregate cost for all EAS Participants to file test result data with the Commission is approximately $3.4 million.

16. We decline to make several changes to the ETRS proposal that were requested in the record. We do not agree that EAS Participants should only be required to report test results once. The purpose of “day of test” reporting is to provide an instant “yes/no” answer to whether the test worked for a particular EAS Participant. In the aggregate, such reporting provides the Commission and its Federal partners with near to near real-time situational awareness of all or any portion of the system. We believe that the burden of supplying such “yes/no” information is small compared to the benefit of knowing, in close to real time, any specific geographic areas where a national test has not been successful. For example, such instant reporting would allow the Commission and FEMA to map a particular area where a test may have failed and immediately identify any point of failure within the EAS alert distribution hierarchy that may have caused downstream failures. We also do not agree that a streamlined waiver process is necessary for those few EAS Participants who do not have Internet access and may need to file their test results on paper. While the Commission recognizes that some areas of the nation may lack widespread Internet access, we believe that it is unnecessary to develop a streamlined waiver process for this reason alone. We believe the existing waiver process under Section 1.3 of the Commission's rules is sufficient and will review such requests accordingly.

17. Further, we will not, as Consumer Groups suggest, allow the ETRS to be used as a mechanism for consumer feedback about EAS accessibility and other test outcomes. The ETRS is a filing system for EAS Participants to facilitate increased understanding and improved analysis of the EAS alert distribution hierarchy, as well as for EAS Participants to identify or report any complications with the receipt or propagation of emergency alerts. As we discuss in further detail below, however, because of the importance of making EAS alerts more accessible, we will monitor all EAS accessibility complaints filed with the Commission through the normal channels. We also direct the Bureau, in coordination with the Consumer and Governmental Affairs Bureau (CGB) and other relevant Commission Bureaus and Offices, to establish a mechanism to receive public feedback on the test.

18. We also do not adopt the suggestion that, because the ETRS database will be used to construct the EAS Mapbook, State Emergency Coordination Committees (SECCs) must be granted access to the ETRS beyond that envisioned by the presumptively confidential nature of ETRS filings. It is not feasible to provide SECCs with such access without compromising the confidentiality of EAS Participant's filings, or risking that the SECC might unintentionally delete or corrupt a filing. Rather, we will, upon request from an SECC, provide the SECC with a report of their state's aggregated data. SECCs can use these reports to remedy monitoring anomalies evident from EAS Participant filings in their state.

19. Finally, we find that the implementation of the ETRS will be best accomplished by the Bureau. Accordingly, we direct the Bureau to implement the ETRS pursuant to the principles and requirements we discuss above. We direct the Bureau to release a subsequent public notice, providing additional information regarding the implementation of the ETRS closer to the launch date of the ETRS, and as subsequently required for future EAS tests and State EAS Plan filings.

C. Visual Crawl and Audio Accessibility

20. The EAS provides a critical means of delivering life- and property-saving information to the public. The Commission's rules ensure that this information is delivered to the public in an accessible manner, primarily by requiring that EAS Participants deliver EAS alerts in both audio and visual formats. The visual display of an EAS alert is generally presented as a page of fixed text, but it can also be presented as a video crawl that scrolls along the top of the screen.

21. The EAS visual message that was transmitted during the first nationwide EAS test was inaccessible to some consumers. For example, stakeholders noted that the visual message in some of the video crawls scrolled across the screen too quickly, or the font was otherwise difficult to read. Others stated that both the audio and visual presentation of the national EAS test message were inconsistent.

22. In the EAS Operational Issues NPRM, we proposed to amend the EAS rules to require that the EAS video crawl meet minimum accessibility requirements for crawl speed, completeness and placement. Our proposed accessibility rules for the EAS video crawls were based upon our quality requirements for closed captions. Specifically, we proposed that the video crawl: (1) Be displayed on the screen at a speed that can be read by viewers; (2) be displayed continuously throughout the duration of any EAS activation; (3) not block other important visual content on the screen; (4) utilize a text font that is sized appropriately for legibility; (5) prevent overlap of lines of text with one another; and (6) position the video crawl adequately so it does not run off the edge of the video screen. We also sought comment on methods of ensuring that EAS audio and EAS visual elements contained essentially the same information.

23. Commenters agree that the EAS visual message, at a minimum, must be accessible if the EAS is to fulfill its purpose of informing all Americans, including Americans with disabilities, of imminent dangers to life and property. Commenters suggest, however, that given the complexity of the EAS alert distribution infrastructure, further discussion and collaboration is necessary and that the Commission should refrain from adopting accessibility requirements at this time. We observe that the Commission tasked the CSRIC with examining the operational issues—including recommended methods to improve alert accessibility—identified in the EAS Operational Issues Public Notice that arose out of the first nationwide EAS test, but the CSRIC did not make specific recommendations on accessibility standards.

24. The Commission is committed to public/private partnership, and has consistently sought to collaborate with stakeholders and to provide EAS Participants with the opportunity to suggest (and take action on) solutions to EAS technical issues. However, given the life-saving importance of the EAS, we cannot afford to delay adoption of minimum rules in favor of further collaboration alone. Viewers are entitled to expect that the EAS visual message be legible to the general public, including people with disabilities. Accordingly, we agree with Consumer Groups that we must adopt a set of baseline accessibility requirements to ensure that EAS messages are accessible to all Americans. We will assess compliance with these minimum requirements through careful monitoring of the informal complaint and consumer inquiry processes, followed by enforcement action to the extent necessary.

25. Display Legibility. First, in addition to requiring that the EAS visual message, whether video crawl or block text, be displayed in a manner that is consistent with our current rules (i.e., “at the top of the television screen or where it will not interfere with other visual messages”), we amend Sections 11.51(d), (g)(3), (h)(3) and (j)(2) of the Commission's EAS rules to require that the visual message also be displayed in a size, color, contrast, location, and speed that is readily readable and understandable.

26. While parties do not agree on a common definition of ideal crawl speed or font size for the EAS video crawl, there is agreement in the record that alert legibility is essential to ensure the effectiveness of the alerts. For the purposes of our rules, we do not mandate a specific crawl speed or font size, nor do we believe such specificity is necessary at this time. Instead, we afford EAS Participants the flexibility to implement this requirement in accordance with their particular best practices and equipment capabilities. We expect EAS Participants to determine and implement effective practices that will ensure alert legibility. While we acknowledge commenters' statements that not all EAS devices are capable of crawling text, EAS Participants that use devices that display block text must nonetheless generate such text in a manner that remains on the screen for a sufficient length of time to be read.

27. Completeness. We also amend Sections 11.51(d), (g)(3), (h)(3) and (j)(2) of the Commission's EAS rules to require that the EAS visual message be displayed in its entirety at least once during any EAS alert message. It would be confusing and potentially dangerous for anyone to be deprived of any portion of the EAS visual message while that alert is being delivered; EAS equipment must be capable of delivering such a basic service. On the other hand, we agree with commenters that the completeness requirement, as originally proposed in the EAS Operational Issues NPRM, should not be adopted. In the NPRM, we proposed to revise Section 11.51(d) of the Commission's EAS rules to require that the EAS video crawl be displayed continuously throughout the duration of any EAS activation. We note, however, that EAS equipment is not always capable of controlling the duration of the video crawl, and further, even if it were, non-Presidential alerts are designed to last no longer than two minutes. It would be inconsistent with the design of the system and a significant burden on EAS Participants to require that the video crawl last for the duration of the event that prompted the EAS alert, (which could potentially last for hours). Nonetheless, because EAS equipment is already capable of ensuring that an EAS visual message is displayed in its entirety at least once during any EAS message, and because doing so will avoid public confusion and dangers to life and property, we amend our rules accordingly to require that any EAS visual message be displayed in full at least one during the pendency of an EAS alert message. In addition, EAS Participants should display any EAS visual message in its entirety more than once, if possible, in order to ensure that viewers are able to re-read and capture the information conveyed by the visual message.

28. Placement. As we note above, we reiterate our requirement that the EAS visual message shall “be displayed at the top of the television screen or where it will not interfere with other video messages,” and we amend Section 11.51(d), (g)(3), (h)(3) and (j)(2) to require that the visual message not (1) contain overlapping lines of EAS text or (2) extend beyond the viewable display except for crawls that intentionally scroll on and off of the screen. We are persuaded by the weight of the record that the placement requirement we proposed in the EAS Operational Issues NPRM, which stated that the EAS visual message shall not “block other important visual content on the screen,” should not be adopted. Such a requirement would be inappropriate in light of commenters' assertions that, unlike closed caption producers, EAS Participants and equipment manufacturers cannot know where to place a video crawl on a screen in a way that will not interfere with non-EAS emergency information or regularly scheduled programming. On the other hand, Trilithic asserts that EAS Participants can render alerts that do not contain overlapping lines of EAS text, and do not run off the edge of the video screen (except for crawls that intentionally scroll on and off of the screen). According to Trilithic, these placement requirements are “reasonable expectations and would help ensure that viewers are able to read and understand the text.” We adopt these placement requirements accordingly.

29. Enforcement Standard. We acknowledge that the creation and delivery of an accessible visual message is not solely within the control of any one entity, and often requires coordination and execution among many connected parties and equipment in the EAS alert distribution chain. While we agree with commenters' assertions that EAS equipment is responsible for deriving the visual message from the EAS header codes or CAP text that an alert originator places within an alert, it remains the responsibility of the EAS Participant to purchase part 11-compliant equipment and to ensure that its equipment operates in a manner compliant with our part 11 rules.

30. The minimum accessibility rules we adopt today establish clear guidelines for the acceptable appearance of an EAS visual message, in order to ensure that EAS Participants offer accessible EAS video crawls and block text. We direct the Bureau to monitor the informal complaint process for complaints pertaining to EAS visual messages and, where appropriate, bring any potential noncompliance to the attention of the Enforcement Bureau for its review. We also note that, subsequent to a nationwide EAS test, EAS Participants must provide information in the ETRS regarding any complications in receiving or propagating the alert test. Such complications would include any failure to comply with the minimum accessibility requirements we adopt today.

31. Finally, we disagree with those commenters who argue that our adaptation of the Commission's minimum accessibility rules in the Closed Captioning Quality Report and Order to fit EAS visual messages is inappropriate because, unlike captions, the production of EAS visual messages is not within the control of the EAS Participants. We recognize that EAS visual messages are produced differently from closed captions, that the presentation of such a visual message can be affected by equipment downstream of the EAS Participant, and that there is no real time opportunity for EAS Participants to edit the text. At the same time, however, the rules we adopt today are technology neutral and do not necessitate that EAS visual messages be produced similarly to closed captions. The EAS accessibility rules we adopt today and our closed captioning requirements only share the foundational requirement that on-screen text be legible, complete, and appropriately placed. Further, we note that several commenters agree that the closed captioning rules can inform the formatting of the EAS visual message. In light of the importance of EAS visual messages, we find that it is reasonable to adopt rules that ensure that EAS video crawls and block text are at least as legible, complete, and appropriately placed as are closed captions.

32. We expect that the minimal accessibility rules we adopt today should have little impact on the operations of EAS equipment manufacturers whose equipment already produces a legible, complete, and appropriately placed EAS visual message, and on EAS Participants who deploy certified EAS equipment at their facilities. Accordingly, we do not anticipate that our revised rules will impose significant costs and burdens upon the majority of EAS Participants. As Trilithic notes, “[m]any of the proposed requirements for . . . [visual message] accessibility require minimal changes and cost.” Further, we are not dictating the precise formatting of the EAS visual message, but rather, we are adopting rules that provide EAS Participants and equipment manufacturers with flexibility to meet our minimum requirements in the most cost-effective manner for their systems.

33. Audiovisual Synchronicity. We decline to adopt rules requiring audiovisual synchronicity at this time. We agree with commenters that alert originators have primary control over audiovisual synchronicity because they are the only party in a position to initiate a message that contains identical audio and text elements. We also agree that downstream equipment in control of the audio presentation “is not always the same equipment used to control the video presentation” and further study would be required to determine how to coordinate these disparate elements of the alert distribution hierarchy. We further agree with Trilithic that message originators should be “free to include as much important information in both mediums as can be made to fit, which may not always result in identical content.” As commenters suggest, we expect that EAS Participants and equipment manufacturers will work together to develop methods to improve audiovisual synchronicity, including the increased use of CAP, to the extent that it does not interfere with alert quality. Accordingly, we encourage EAS Participants to develop a greater capacity to generate both the audio and the visual elements of alerts in a manner that provides viewers with equal information within the same or similar timeframes. We will revisit the need for specific rules addressing this matter in the future if it is brought to our attention that problems with audiovisual synchronicity are impeding access to EAS alerts.

34. We note that FEMA has already addressed and corrected the primary audio quality problems experienced during the first nationwide EAS test, i.e., a technical malfunction that occurred at the National Primary level that affected the underlying quality of EAS audio nationwide. However, as we stated in the EAS Operational Issues NPRM, we are concerned that the audio and visual elements should convey the same message. Accordingly, consistent with the overall accessibility rules we adopt today, including the requirements for the visual portion of an EAS alert, we require that the audio portion of any EAS alert must play in full at least once during any EAS message. Furthermore, we expect the audio portion of an EAS message to be delivered in a manner and cadence that is sufficient for the consumer who does not have a hearing loss to readily comprehend it. We will continue to monitor future EAS activations and tests to determine whether we need to adopt any additional rules to ensure that the audio portion of an EAS message is accessible.

35. Text-to-Speech. The Commission currently allows text-to-speech (TTS) to be used as a method of providing audio for EAS alerts. We agree with commenters that while TTS is an appropriate technology for rendering alert audio in some cases, and may support audiovisual parity when combined with CAP text, we do not mandate its use at this time. The technology is maturing, but mandating its use may require extensive and costly changes to EAS equipment for small EAS Participants. Nonetheless, given the critical and urgent nature of emergency information, as recommended by Wireless RERC, we encourage its use to construct EAS audio from the EAS header codes, especially when no separate audio file is provided by the alert originator, in order to provide access to the emergency information by individuals who are blind or visually impaired. We will continue to monitor the feasibility of adopting TTS requirements as the technology continues to evolve. In particular, as part of the workshop we direct the Bureau to convene below, stakeholders should examine, among other issues, the state of TTS technology, including ongoing research and development and readiness for reliable, cost-effective implementation as part of EAS.

36. Workshop to Promote Accessibility and Wider Use of EAS. In addition to the accessibility rules we adopt today, we direct the Bureau to continue collaborative efforts to ensure that the EAS is accessible and widely utilized. Specifically, we direct the Bureau to collaborate with FEMA and other relevant EAS stakeholders by hosting a workshop within three months of the adoption date of this order. The object of this workshop will be to ensure that EAS remains a reliable and effective resource for all Americans by addressing and making recommendations regarding two key issues: Increasing the flexibility of the EAS to expand its use by emergency managers at the state and local levels, and the improvement of alert accessibility. The workshop should discuss methods to empower and encourage state and local emergency managers to utilize the EAS and Wireless Emergency Alert (WEA) system more widely for localized alerts and exercises. The workshop also should build upon cumulative efforts to improve the accessibility of EAS visual messages by examining, inter alia, the technical feasibility of improving the synchronicity of EAS audio with the EAS visual crawl, as well as the readiness of TTS technology for increased usage in national and local alerting. The Commission may refer additional issues arising out of the workshop to the CSRIC and other FCC federal advisory committees, as appropriate.

D. Public Policy Analysis

37. In this Section, we conclude that the benefits of the rules we adopt today exceed their associated implementation costs. In the EAS Operational Issues NPRM, we sought comment on the specific costs and benefits associated with the implementation of our proposed rules establishing essential operational improvements to the EAS. Although the proposed rules covered a wide range of issues associated with the EAS, each with its own cost of development and deployment, we expected that their implementation would present a one-time, maximum aggregate cost of $13.6 million, and that all proposed rules shared the common expected benefit of saving human lives, reducing injuries, mitigating property damage, and minimizing the disruption of our national economy on an ongoing basis.

38. No commenter opposes our analysis of the costs or benefits associated with implementation of our proposed rules. In large part, we adopt the rules proposed in the EAS Operational Issues NPRM. The rules we adopt today present EAS Participants with minimum implementation costs and a significant degree of implementation flexibility. To the extent our final rules differ from the proposed rules, however, those differences should actually result in the same or lower costs for EAS Participants. In particular, because we adopt NPT rules that do not require the use of the EAN (or an NPT that emulates the use of the EAN), the maximum costs of implementing our requirements will be $6.6 million less than originally proposed. Accordingly, we find that the upper bound of the cost of compliance with the rules we adopt today is $7 million, rather than $13.6 million as initially proposed.

39. With regard to benefits, we find that the EAS is a resilient public alert and warning tool that is essential to help save lives and protect property during times of national, state, regional, and local emergencies. Although the EAS, as tested in 2011, works largely as designed, the improvements we adopt today are responsive to operational inconsistencies uncovered by the first nationwide EAS test. These operational inconsistencies, left unaddressed, would adversely affect the continued efficacy of the system. These rules also will enable the Commission to improve its ability to collect, process and evaluate data about EAS alerting pathways, and will lead to higher quality alerts for every American. In sum, the rules we adopt today will preserve safety of life through more effective alerting. We find, therefore, that it is reasonable to expect that the improvements to the EAS that will result from the rules we adopt today will save lives and result in numerous other benefits that are less quantifiable but still advance important public interest objectives.

E. Compliance Timing

40. National Location Code and NPT Rules Compliance Timeline. We conclude that EAS Participants should be given up to twelve months from the effective date of the rule amendments requiring use of the national location code and NPT rules to come into compliance with these amendments. In light of the fact that FEMA intends to conduct a nationwide EAS test “in the near future,” and that such a test will use both the NPT and the “six zeroes” location code, it is imperative that we ensure that EAS Participants are capable of processing a test with these characteristics as rapidly as possible. In the EAS Operational Issues NPRM, we addressed this concern by proposing to require compliance with the national location code and NPT requirements we proposed within six months from the effective date of their codification into our rules. Some commenters, such as Monroe and Verizon, agree that a period as short as six months could be sufficient to implement our rules. NCTA and AT&T, on the other hand, argue that a six-month timeline would not provide EAS Participants with sufficient time to develop, test, and deploy the required system updates, and argue instead for a twelve-month implementation timeline. Specifically, AT&T asserts that their “Approval For Use” process, that is standardized throughout the AT&T networks, must take at least one year to complete, because it is an iterative process, especially in the new Internet Protocol TV markets in which they operate, whereby their engineers failure test EAS equipment programming, then send the product back to the manufacturer for further updates if they find errors, and then retest the updated equipment recursively until one hundred percent certainty can be established that the device will perform as expected within their system. According to AT&T, this is not the kind of process that can be accelerated merely by the increased expenditure of resources.

41. Our goal in this and related rulemakings is to ensure that the EAS is efficient and secure, and we acknowledge that this goal would not be furthered by requiring any EAS Participant to short circuit their testing process for new rules. Accordingly, we provide herein that EAS Participants are granted a period of up to, but no longer than, twelve months in which to come into compliance with the national location code and NPT requirements that are reflected in the rule amendments we adopt today. This twelve-month period will run from the effective date of these rule amendments, which is thirty days after their publication in the Federal Register.

42. ETRS Compliance Timeline. We require EAS Participants to complete the identifying information initially required by the ETRS filing requirement we adopt today within sixty days of the effective date of the ETRS rules we adopt today, or within sixty days of the launch of the ETRS, whichever is later. We agree that the requirement for EAS Participants to provide ETRS identifying information within sixty days of adoption of these rules would be a reasonable time period, but that it makes sense for the compliance triggering event to be the date on which the ETRS becomes operational. We further require EAS Participants to update their identifying information concurrently with any update to their EAS State Plans, and require EAS Participants to complete the “day of test” portion of their filing obligation within 24 hours of any test, and the remainder of the filing obligation within forty-five days of the next EAS nationwide test, the same timeline that we successfully implemented for the first nationwide EAS test.

43. We believe it is reasonable for EAS Participants to complete their filings on this timeline because no equipment changes or attendant processes are required in order to achieve compliance with this rule. Furthermore, the electronic filing system should allow EAS Participants to complete their filing obligation even more quickly than they did for the first nationwide test, in which we adopted the same compliance timeline for submitting test data.

44. Accessibility Compliance Timeline. We also provide herein that EAS Participants will be given a period of up to, but no longer than, six months in which to come into compliance with the display legibility, completeness and placement requirements that are reflected in the rule amendments we adopt today. This six-month period will run from the effective date of these rule amendments, which is thirty days after their publication in the Federal Register. We note that NCTA avers that EAS Participants generally are already compliant with the majority of accessibility rules as proposed in the EAS Operational Issues NPRM. While Trilithic argues that our proposed completeness rule would require significantly longer than a year to implement, because EAS equipment is not capable of controlling the duration of the EAS visual crawl, we do not require the EAS visual crawl to last for the duration of the EAS activation and, as such, Trilithic's argument is now inapplicable. On the other hand, we also decline to adopt a shorter timeframe for implementation of these accessibility requirements, as urged by some consumer groups. We fully recognize the exigency of providing accessible alerts to all Americans, and it is for that reason that we adopt these accessibility rules today, but it would be counterproductive to require compliance with these rules sooner than we reasonably could expect that EAS Participants would generally be able to meet such requirements. Commenters generally did not object to implementing the accessibility rules we proposed in the EAS Operational Issues NPRM within six months. We therefore find that six months will provide sufficient time for EAS Participants to comply with the EAS accessibility rules we adopt today.

II. Procedural Matters

A. Regulatory Flexibility Analysis

45. As required by the Regulatory Flexibility Act of 1980 (RFA),² the Commission has prepared a Final Regulatory Certification (Certification) for the Sixth Report and Order. The Certification is set forth as Appendix E. The Commission's Consumer and Governmental Affairs Bureau, Reference Information Center, will send a copy of the Sixth Report and Order and the Certification to the Chief Counsel for Advocacy of the Small Business Administration (SBA).

² See 5 U.S.C. 603.

B. Paperwork Reduction Analysis

46. The Sixth Report and Order contains new information collection requirements subject to the Paperwork Reduction Act of 1995 (PRA), Public Law 104-13. It will be submitted to the Office of Management and Budget (OMB) for review under Section 3507(d) of the PRA. OMB, the general public, and other Federal agencies are invited to comment on the new information collection requirements contained in this proceeding.

47. We note that pursuant to the Small Business Paperwork Relief Act of 2002, Public Law 107-198, see 44 U.S.C. 3506(c)(4), we previously sought specific comment on how the Commission might “further reduce the information collection burden for small business concerns with fewer than 25 employees.” ³ In addition, we have described impacts that might affect small businesses, which includes most businesses with fewer than 25 employees, in the FRFA in Appendix B, infra.

³ See EAS Operational Issues NPRM, 29 FCC Rcd at Appendix B.

C. Congressional Review Act

48. The Commission will send a copy of this Sixth Report and Order in a report to be sent to Congress and the Government Accountability Office pursuant to the Congressional Review Act (CRA), see 5 U.S.C. 801(a)(1)(A).

III. Ordering Clauses

49. Accordingly, it is ordered, pursuant to Sections 1, 2, 4(i), 4(o), 301, 303(r), 303(v), 307, 309, 335, 403, 624(g), 706, and 715 of the Communications Act of 1934, as amended, 47 U.S.C. 151, 152, 154(i), 154(o), 301, 301(r), 303(v), 307, 309, 335, 403, 544(g), 606, and 615 that the Sixth Report and Order in EB Docket No. 04-296 IS adopted and shall become effective July 30, 2015, except for § 11.21(a), and § 11.61(a)(3)(iv) which contain information collection requirements that have not been approved by OMB. The Federal Communications Commission will publish a document in the Federal Register announcing the effective date.

50. It is further ordered that notwithstanding paragraph [64] above, EAS Participants are granted a period of twelve months from the effective date of the rule amendments contained in 47 CFR 11.31, 11.51(m)(2) and (n), 11.52, and 11.54, in which to come into compliance with those amendments.

51. It is further ordered that notwithstanding paragraph [64] above, EAS Participants are granted a period of six months from the effective date of the rule amendments contained in 47 CFR 11.51(d), (g)(3), (h)(3), and (j)(2) in which to come into compliance with those amendments.

52. It is further ordered that the Commission's Consumer and Governmental Affairs Bureau, Reference Information Center, SHALL SEND a copy of this Sixth Report and Order, including the Initial Regulatory Flexibility Analysis, to the Chief Counsel for Advocacy of the Small Business Administration.

List of Subjects in 47 CFR Part 11

Radio, Television.

Federal Communications Commission.
Gloria J. Miles,
Federal Register Liaison Officer.

Final Rules

For the reasons discussed in the preamble, the Federal Communications Commission amends 47 CFR part 11 as follows:

PART 11—EMERGENCY ALERT SYSTEM (EAS)

1. The authority citation for part 11 continues to read as follows:

Authority: 47 U.S.C. 151, 154 (i) and (o), 303(r), 544(g) and 606.

2. Amend § 11.21 by revising paragraphs (a) and (c) to read as follows:

§ 11.21 State and Local Area plans and FCC Mapbook.

* * * * *

(a) The State EAS Plan contains procedures for State emergency management and other State officials, the NWS, and EAS Participants' personnel to transmit emergency information to the public during a State emergency using the EAS. EAS State Plans should include a data table, in computer readable form, clearly showing monitoring assignments and the specific primary and backup path for emergency action notification (“EAN”) messages that are formatted in the EAS Protocol (specified in § 11.31), from the PEP to each station in the plan. If a state's emergency alert system is capable of initiating EAS messages formatted in the Common Alerting Protocol (CAP), its EAS State Plan must include specific and detailed information describing how such messages will be aggregated and distributed to EAS Participants within the state, including the monitoring requirements associated with distributing such messages. Consistent with the requirements of § 11.61(a)(3)(iv), EAS Participants shall provide the identifying information required by the EAS Test Reporting System (ETRS) no later than sixty days after the publication in the Federal Register of a notice announcing the approval by the Office of Management and Budget of the modified information collection requirements under the Paperwork Reduction Act of 1995 and an effective date of the rule amendment, or within sixty days of the launch of the ETRS, whichever is later, and shall renew this identifying information on a yearly basis or as required by any revision of the EAS Participant's State EAS Plan filed pursuant to this section.

* * * * *

(c) The FCC Mapbook is based on the consolidation of the data table required in each State EAS plan with the identifying data contained in the ETRS. The Mapbook organizes all EAS Participants according to their State, EAS Local Area, and EAS designation.

3. Amend § 11.31 by revising paragraph (f) to read as follows:

§ 11.31 EAS protocol.

* * * * *

(f) The All U.S., State, Territory and Offshore (Marine Area) ANSI number codes (SS) are as follows. County ANSI numbers (CCC) are contained in the State EAS Mapbook.

| ANSI No.
All U.S. | 00
State:
AL | 01
AK | 02
AZ | 04
AR | 05
CA | 06
CO | 08
CT | 09
DE | 10
DC | 11
FL | 12
GA | 13
HI | 15
ID | 16
IL | 17
IN | 18
IA | 19
KS | 20
KY | 21
LA | 22
ME | 23
MD | 24
MA | 25
MI | 26
MN | 27
MS | 28
MO | 29
MT | 30
NE | 31
NV | 32
NH | 33
NJ | 34
NM | 35
NY | 36
NC | 37
ND | 38
OH | 39
OK | 40
OR | 41
PA | 42
RI | 44
SC | 45
SD | 46
TN | 47
TX | 48
UT | 49
VT | 50
VA | 51
WA | 53
WV | 54
WI | 55
WY | 56
Terr.:
AS | 60
FM | 64
GU | 66
MH | 68
MH | 68
PR | 72
PW | 70
UM | 74
VI | 78
Offshore (Marine Areas): ¹
Eastern North Pacific Ocean, and along U.S. West Coast from Canadian border to Mexican border | 57
North Pacific Ocean near Alaska, and along Alaska coastline, including the Bering Sea and the Gulf of Alaska | 58
Central Pacific Ocean, including Hawaiian waters | 59
South Central Pacific Ocean, including American Samoa waters | 61
Western Pacific Ocean, including Mariana Island waters | 65
Western North Atlantic Ocean, and along U.S. East Coast, from Canadian border south to Currituck Beach Light, N.C. | 73
Western North Atlantic Ocean, and along U.S. East Coast, south of Currituck Beach Light, N.C., following the coastline into Gulf of Mexico to Bonita Beach, FL., including the Caribbean | 75
Gulf of Mexico, and along the U.S. Gulf Coast from the Mexican border to Bonita Beach, FL | 77
Lake Superior | 91
Lake Michigan | 92
Lake Huron | 93
Lake St. Clair | 94
Lake Erie | 96
Lake Ontario | 97
St. Lawrence River above St. Regis | 98
¹ Effective May 16, 2002, analog radio and television broadcast stations, analog cable systems and wireless cable systems may upgrade their existing EAS equipment to add these marine area location codes on a voluntary basis until the equipment is replaced. All models of EAS equipment manufactured after August 1, 2003, must be capable of receiving and transmitting these marine area location codes. EAS Participants that install or replace their EAS equipment after February 1, 2004, must install equipment that is capable of receiving and transmitting these location codes.

4. Amend § 11.51 by revising paragraphs (d), (g)(3) (h)(3), (j)(2), (m)(2) and (n) to read as follows:

§ 11.51 EAS code and Attention Signal Transmission requirements.

* * * * *

(d) Analog and digital television broadcast stations shall transmit a visual message containing the Originator, Event, Location and the valid time period of an EAS message. Effective June 30, 2012, visual messages derived from CAP-formatted EAS messages shall contain the Originator, Event, Location and the valid time period of the message and shall be constructed in accordance with § 3.6 of the “ECIG Recommendations for a CAP EAS Implementation Guide, Version 1.0” (May 17, 2010), except that if the EAS Participant has deployed an Intermediary Device to meet its CAP-related obligations, this requirement shall be effective June 30, 2015, and until such date shall be subject to the general requirement to transmit a visual message containing the Originator, Event, Location and the valid time period of the EAS message.

(1) The visual message portion of an EAS alert, whether video crawl or block text, must be displayed:

(i) At the top of the television screen or where it will not interfere with other visual messages

(ii) In a manner (i.e., font size, color, contrast, location, and speed) that is readily readable and understandable,

(iii) That does not contain overlapping lines of EAS text or extend beyond the viewable display (except for video crawls that intentionally scroll on and off of the screen), and

(iv) In full at least once during any EAS message.

(2) The audio portion of an EAS message must play in full at least once during any EAS message.

* * * * *

(g) * * *

(3) Shall transmit a visual EAS message on at least one channel. The visual message shall contain the Originator, Event, Location, and the valid time period of the EAS message. Effective June 30, 2012, visual messages derived from CAP-formatted EAS messages shall contain the Originator, Event, Location and the valid time period of the message and shall be constructed in accordance with § 3.6 of the “ECIG Recommendations for a CAP EAS Implementation Guide, Version 1.0” (May 17, 2010), except that if the EAS Participant has deployed an Intermediary Device to meet its CAP-related obligations, this requirement shall be effective June 30, 2015, and until such date shall be subject to the general requirement to transmit a visual message containing the Originator, Event, Location and the valid time period of the EAS message.

(i) The visual message portion of an EAS alert, whether video crawl or block text, must be displayed:

(A) At the top of the television screen or where it will not interfere with other visual messages;

(B) In a manner (i.e., font size, color, contrast, location, and speed) that is readily readable and understandable;

(C) That does not contain overlapping lines of EAS text or extend beyond the viewable display (except for video crawls that intentionally scroll on and off of the screen), and

(D) In full at least once during any EAS message.

(ii) The audio portion of an EAS message must play in full at least once during any EAS message.

(h) * * *

(3) Shall transmit the EAS visual message on all downstream channels. The visual message shall contain the Originator, Event, Location, and the valid time period of the EAS message. Effective June 30, 2012, visual messages derived from CAP-formatted EAS messages shall contain the Originator, Event, Location and the valid time period of the message and shall be constructed in accordance with § 3.6 of the “ECIG Recommendations for a CAP EAS Implementation Guide, Version 1.0” (May 17, 2010), except that if the EAS Participant has deployed an Intermediary Device to meet its CAP-related obligations, this requirement shall be effective June 30, 2015, and until such date shall be subject to the general requirement to transmit a visual message containing the Originator, Event, Location and the valid time period of the EAS message.

(i) The visual message portion of an EAS alert, whether video crawl or block text, must be displayed:

(A) At the top of the television screen or where it will not interfere with other visual messages

(B) In a manner (i.e., font size, color, contrast, location, and speed) that is readily readable and understandable,

(C) That does not contain overlapping lines of EAS text or extend beyond the viewable display (except for video crawls that intentionally scroll on and off of the screen), and

(D) In full at least once during any EAS message.

(ii) The audio portion of an EAS message must play in full at least once during any EAS message.

* * * * *

(j) * * *

(2) The visual message shall contain the Originator, Event, Location, and the valid time period of the EAS message. Effective June 30, 2012, visual messages derived from CAP-formatted EAS messages shall contain the Originator, Event, Location and the valid time period of the message and shall be constructed in accordance with § 3.6 of the “ECIG Recommendations for a CAP EAS Implementation Guide, Version 1.0” (May 17, 2010), except that if the EAS Participant has deployed an Intermediary Device to meet its CAP-related obligations, this requirement shall be effective June 30, 2015, and until such date shall be subject to the general requirement to transmit a visual message containing the Originator, Event, Location and the valid time period of the EAS message.

(i) The visual message portion of an EAS alert, whether video crawl or block text, must be displayed:

(A) At the top of the television screen or where it will not interfere with other visual messages

(B) In a manner (i.e., font size, color, contrast, location, and speed) that is readily readable and understandable,

(C) That does not contain overlapping lines of EAS text or extend beyond the viewable display (except for video crawls that intentionally scroll on and off of the screen), and

(D) In full at least once during any EAS message.

(ii) The audio portion of an EAS message must play in full at least once during any EAS message.

* * * * *

(m) * * *

(2) Manual interrupt of programming and transmission of EAS messages may be used. EAS messages with the EAN Event code, or the National Periodic Test (NPT) Event code in the case of a nationwide test of the EAS, must be transmitted immediately; Monthly EAS test messages must be transmitted within 60 minutes. All actions must be logged and include the minimum information required for EAS video messages.

(n) EAS Participants may employ a minimum delay feature, not to exceed 15 minutes, for automatic interruption of EAS codes. However, this may not be used for the EAN Event code, or the NPT Event code in the case of a nationwide test of the EAS, which must be transmitted immediately. The delay time for an RMT message may not exceed 60 minutes.

* * * * *

5. Amend § 11.52 by revising paragraphs (e) introductory text and (e)(2) to read as follows:

§ 11.52 EAS code and Attention Signal Monitoring requirements.

* * * * *

(e) EAS Participants are required to interrupt normal programming either automatically or manually when they receive an EAS message in which the header code contains the Event codes for Emergency Action Notification (EAN), the National Periodic Test (NPT), or the Required Monthly Test (RMT) for their State or State/county location.

* * * * *

(2) Manual interrupt of programming and transmission of EAS messages may be used. EAS messages with the EAN Event code, or the NPT Event code in the case of a nationwide test of the EAS, must be transmitted immediately; Monthly EAS test messages must be transmitted within 60 minutes. All actions must be logged and recorded as specified in §§ 11.35(a) and 11.54(a)(3). Decoders must be programmed for the EAN Event header code and the RMT and RWT Event header codes (for required monthly and weekly tests), with the appropriate accompanying State and State/county location codes.

6. Amend § 11.54 by revising paragraph (a) introductory text to read as follows:

§ 11.54 EAS operation during a National Level emergency

(a) Immediately upon receipt of an EAN message, or the NPT Event code in the case of a nationwide test of the EAS, EAS Participants must comply with the following requirements, as applicable:

* * * * *

7. Amend § 11.61 by revising paragraph (a)(3)(iv) to read as follows:

§ 11.61 Tests of EAS procedures.

(a) * * *

(3) * * *

(iv) Test results as required by the Commission shall be logged by all EAS Participants into the EAS Test Reporting System (ETRS) as determined by the Commission's Public Safety and Homeland Security Bureau, subject to the following requirements.

(A) EAS Participants shall provide the identifying information required by the ETRS initially no later than sixty days after the publication in the Federal Register of a notice announcing the approval by the Office of Management and Budget of the modified information collection requirements under the Paperwork Reduction Act of 1995 and an effective date of the rule amendment, or within sixty days of the launch of the ETRS, whichever is later, and shall renew this identifying information on a yearly basis or as required by any revision of the EAS Participant's State EAS Plan filed pursuant to § 11.21.

(B) “Day of test” data shall be filed in the ETRS within 24 hours of any nationwide test or as otherwise required by the Public Safety and Homeland Security Bureau.

(C) Detailed post-test data shall be filed in the ETRS within forty five (45) days following any nationwide test.

* * * * *

[FR Doc. 2015-15805 Filed 6-29-15; 8:45 am]

BILLING CODE 6712-01-P